DEPARTMENT OF COMMERCE

National Oceanic and Atmospheric Administration

RIN 0648-XE332

Gulf of Mexico Fishery Management Council; Public Meeting

AGENCY: National Marine Fisheries Service (NMFS), National Oceanic and Atmospheric Administration (NOAA), Commerce.

ACTION: Notice; public meeting via webinar.

SUMMARY: The Gulf of Mexico Fishery Management Council (Council) will hold a public meeting of its Law Enforcement Advisory Panel (LEAP) via webinar.

DATES: The meeting/webinar will be held Monday, December 14, 2015, beginning at 1 p.m. EST and concluding by 3 p.m. EST.

ADDRESSES: The public documents can be obtained by contacting the Gulf of Mexico Fishery Management Council at (813) 348-1630 or on their Web site at www.gulfcouncil.org.

Meeting address: The meeting will be held via webinar. You may register to participate at: https://attendee.gotowebinar.com/register/1596747440417850881.

Council address: Gulf of Mexico Fishery Management Council, 2203 N. Lois Avenue, Suite 1100, Tampa, FL 33607.

FOR FURTHER INFORMATION CONTACT: Steven Atran, Senior Fishery Biologist, Gulf of Mexico Fishery Management Council; telephone: (813) 348-1630; fax: (813) 348-1711; email: steven.atran@gulfcouncil.org.

SUPPLEMENTARY INFORMATION: The agenda for the meeting is as follows: The meeting will begin with adoption of agenda and review of scope of work. The Advisory Panel (AP) will discuss the ability of state enforcement agencies to provide background checks on advisory panel applicants for fishery violations in state waters involving federally managed stocks. The AP will also review the procedure for selecting candidates for the new Officer of the Year Program, and will discuss LEAP Representatives duties during council meetings. Lastly, any Other Business items, if any, may be discussed.

Special Accommodations

Requests for auxiliary aids should be directed to Kathy Pereira (see ADDRESSES), at least 5 working days prior to the meeting date.

Authority: 16 U.S.C. 1801 et seq.

Dated: November 23, 2015.
Tracey L. Thompson,
Acting Deputy Director, Office of Sustainable Fisheries, National Marine Fisheries Service.

[FR Doc. 2015-30186 Filed 11-25-15; 8:45 am]

BILLING CODE 3510-22-P